DEPARTMENT OF THE INTERIOR

Bureau of Reclamation

Humboldt Project Conveyance, Pershing and Lander Counties, NV

AGENCY: Bureau of Reclamation, Interior.

ACTION: Notice of intent to prepare an Environmental Impact Statement (EIS).

SUMMARY: Pursuant to section 102(2) (c) of the National Environmental Policy Act (NEPA), the Bureau of Reclamation (Reclamation) proposes to prepare an Environmental Impact Statement (EIS) for the Humboldt Project Conveyance. Reclamation will be conducting public scoping meetings to elicit comments on the scope and issues to be addressed in the draft EIS. Reclamation is also seeking written comments, as noted below. The draft EIS is expected to be issued in early 2004. Public notification will occur for all scoping meetings to be held for this draft EIS.

DATES: Written comments on the scope of alternatives and impacts to be considered should be sent to Reclamation at the address below by June 15, 2003.

ADDRESSES: Written comments should be sent to Caryn Huntt DeCarlo, Bureau of Reclamation, Lahontan Basin Area Office, 705 N. Plaza, Room 320, Carson City, NV 89701; or by telephone at 775-884-8352; or faxed to 775-882-7592 (TDD 775-487-5933).

FOR FURTHER INFORMATION CONTACT: Caryn Huntt DeCarlo, Bureau of Reclamation, at the above address and telephone number.

SUPPLEMENTARY INFORMATION: The Humboldt Project (Project) is located along the Humboldt River in northwestern Nevada. Reclamation began the Project construction in 1935, and in 1941 the first water was delivered to the agricultural lands from storage in Rye Patch Reservoir. The Pershing County Water Conservation District (PCWCD) assumed operation of the Project in 1941. PCWCD has had several Project repayment contracts with Reclamation that have all been repaid. Project features include Battle Mountain Community Pasture, Rye Patch Dam and Reservoir, and the Humboldt Sink. Battle Mountain Community Pasture, located near Battle Mountain, is approximately 30,000 acres and is managed for grazing by the PCWCD under a lease agreement with Reclamation. Rye Patch Reservoir is located 26 miles upstream from Lovelock, is 21 miles in length, and has a capacity of 190,000 acre-feet. The State of Nevada manages the recreation at the reservoir under a management agreement with Reclamation and the PCWCD. The Humboldt Sink is also part of the Project and is managed by the State of Nevada under a management agreement with Reclamation.

Reclamation is preparing an EIS to analyze the action of conveying title of the Humboldt Project and associated lands to several entities. The conveyance is authorized under title VIII of Public Law 107-282. The preliminary estimate of acres of conveyance is as follows: PCWCD 48,700 acres (portions of Rye Patch Reservoir and the Battle Mountain Community Pasture); Pershing County 960 acres (portion of the Humboldt Sink area); Lander County 1,100 acres (portion of the Battle Mountain Community Pasture); and the State of Nevada 19,700 acres (portions of Rye Patch Reservoir, Humboldt Sink, and in the Battle Mountain Community Pasture).

The environmental impacts of the Project conveyance and associated alternatives will be assessed in the EIS. The environmental review in the EIS will focus on the potential for Project conveyance to cause adverse environmental impacts to natural and cultural resources such as recreation, endangered species and other fish and wildlife, and historic resources.

Our practice is to make comments, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 31, 2003.
Frank Michny,
Regional Environmental Officer, Mid-Pacific Region.

[FR Doc. 03-4456 Filed 2-25-03; 8:45 am]

BILLING CODE 4310-MN-P